DEPARTMENT OF COMMERCE

International Trade Administration

[C-533-870]

Certain New Pneumatic Off-the-Road Tires From India: Amended Final Results of Countervailing Duty Administrative Review; 2022

AGENCY: Enforcement and Compliance, International Trade Administration, Department of Commerce.

SUMMARY: The U.S. Department of Commerce (Commerce) is amending the final results of the administrative review of the countervailing duty (CVD) order on certain new pneumatic off-the-road tires (OTR tires) from India to correct ministerial errors. Based on the amended final results, we find that ATC Tires Private Limited (ATC) sold OTR tires in the United States at less than normal value during the period of review (POR), January 1, 2022, through December 31, 2022.

DATES: Applicable February 10, 2025.

FOR FURTHER INFORMATION CONTACT: Mark Hoadley, AD/CVD Operations, Office VII, Enforcement and Compliance, International Trade Administration, U.S. Department of Commerce, 1401 Constitution Avenue NW, Washington, DC 20230; telephone: (202) 482-3148.

SUPPLEMENTARY INFORMATION:

Background

On October 22, 2024, Commerce published in the Federal Register the final results of the 2022 administrative review of the AD order on OTR tires from India.¹ On November 7, 2024, Commerce received allegations of ministerial errors from Titan Tire Corporation (Titan).² We received no rebuttal comments. Commerce is amending the Final Results to correct the ministerial errors.

¹ See Certain New Pneumatic Off-the-Road Tires from India: Final Results of Countervailing Duty Administrative Review; 2022, 89 FR 84331 (October 22, 2024) (Final Results), and accompanying Issues and Decision Memorandum (IDM).

² See Titan's Letter, “Ministerial Error Comments,” dated November 7, 2024 (Titan's Comments).

Legal Framework

Section 751(h) of the Tariff Act of 1930, as amended (the Act), defines a “ministerial error” as including “errors in addition, subtraction, or other arithmetic function, clerical errors resulting from inaccurate copying, duplication, or the like, and any other unintentional error which the administering authority considers ministerial.” ³ With respect to final results of administrative reviews, 19 CFR 351.224(e) provides that Commerce “will analyze any comments received and, if appropriate, correct any . . . ministerial error by amending the final results of review . . .”

³ See 19 CFR 351.224(f).

Ministerial Error

Commerce reviewed the record, and we agree that the errors alleged by Titan constitute ministerial errors within the meaning of section 751(h) of the Act and 19 CFR 351.224(f).⁴ Specifically, we find that we made inadvertent errors in the calculation of total benefits received by ATC from Special Economic Zone programs and in the calculation of total benefits received by Balkrishna Industries Ltd. (BKT) from the Export Promotion Capital Goods Scheme. Pursuant to 19 CFR 351.224(e), Commerce is amending the Final Results to reflect the correction of the ministerial errors, as described in the Ministerial Error Memorandum. Based on the corrections, ATC's final dumping margin remains 1.70 percent, and BKT's final dumping margin changed from 0.34 percent to 0.39 percent. The amended estimated weighted-average dumping margins are listed in the “Amended Final Results of Review,” section below.

⁴ See Memorandum, “Analysis of Ministerial Error Allegation,” dated concurrently with this notice (Ministerial Error Memorandum).

For a complete discussion of the ministerial error allegation, as well as Commerce's analysis, see the Ministerial Error Memorandum. The Ministerial Error Memorandum is on file electronically via Enforcement and Compliance's Antidumping and Countervailing Duty Centralized Electronic Service System (ACCESS). ACCESS is available to registered users at https://access.trade.gov.

Amended Final Results of Review

As a result of correcting the ministerial errors described above, Commerce determines that the following estimated weighted-average dumping margins exist for the period January 1, 2022, through December 31, 2022:

Exporter | Weighted-average dumping margin (percent)
ATC Tires Private Limited | 1.70
Balkrishna Industries Ltd | * 0.39
Non-Selected Companies Under Review ⁵ | 1.70
* De minimis.

Disclosure

⁵ See Appendix.

Commerce intends to disclose the calculations performed in connection with these amended final results of review to interested parties within five days after public announcement of the amended final results or, if there is no public announcement, within five days of the date of publication of the notice of amended final results in the Federal Register, in accordance with 19 CFR 351.224(b).

Assessment Rates

Pursuant to sections 751(a)(1) and (a)(2)(C) of the Act and 19 CFR 351.212(b), Commerce shall determine, and U.S. Customs and Border Protection (CBP) shall assess, countervailing duties on all appropriate entries of subject merchandise in accordance with the final results of this review.

On January 16, 2025, the U.S. Court of International Trade issued a statutory injunction (SI) enjoining liquidation of entries subject to this review. This SI was issued in connection with Titan Tire Corporation vs. United States, Court No. 24-00207-MAB. Commerce will not issue assessment instructions until a final resolution of the litigation and the dissolution of the SI.

Cash Deposit Requirements

In accordance with section 751(a)(1) and (a)(2)(C) of the Act, Commerce also intends to instruct CBP to collect cash deposits of estimated countervailing duties in the amounts shown for the companies listed above on shipments of subject merchandise entered, or withdrawn from warehouse, for consumption on or after the date of publication of the final results of this administrative review. Because the rate calculated for BKT is de minimis, no cash deposit will be required on shipments of the subject merchandise entered or withdrawn from warehouse, for consumption on or after the date of publication of the final results of this review. For all non-reviewed firms, we will instruct CBP to continue to collect cash deposits of estimated countervailing duties at the all-others rate or the most recent company-specific rate applicable to the company, as appropriate. These cash deposit requirements, effective upon publication of these final results, shall remain in effect until further notice.

Administrative Protective Order (APO)

This notice serves as the final reminder to parties subject to an APO of their responsibility concerning the disposition of proprietary information disclosed under APO in accordance with 19 CFR 351.305(a)(3), which continues to govern business proprietary information in this segment of the proceeding. Timely written notification of return/destruction of APO materials or conversion to judicial protective order is hereby requested. Failure to comply with the regulations and the terms of an APO is a sanctionable violation.

Notification to Interested Parties

We are issuing and publishing these amended final results of review in accordance with sections 751(h) and 777(i) of the Act, and 19 CFR 351.224(e).

Dated: February 5, 2025.
Christopher Abbott,
Deputy Assistant Secretary for Policy and Negotiations, performing the non-exclusive functions and duties of the Assistant Secretary for Enforcement and Compliance.

Appendix—Non-Examined Companies Under Review

1. Aakriti Manufacturing Pvt. Ltd.

2. Apollo Tyres Ltd.

3. Asian Tire Factory Limited.

4. Asiatic Tradelinks Private Limited.

5. Cavendish Industries Ltd.

6. Ceat Ltd.

7. Celite Tyre Corporation.

8. Emerald Resilient Tyre Manufacturer.

9. Forech India Private Limited.

10. HRI Tires India.

11. Innovative Tyres & Tubes Limited.

12. JK Tyre & Industries Ltd.

13. John Deere India Pvt. Ltd.

14. K.R.M. Tyres.

15. Mahansaria Tyres Private Limited.

16. MRF Limited.

17. MRL Tyres Limited (Malhotra Rubbers Ltd.).

18. Neosym Industry Limited.

19. OTR Laminated Tyres (I) Pvt. Ltd.

20. Royal Tyres Private Limited.

21. Rubberman Enterprises Pvt. Ltd.

22. Speedways Rubber Company.

23. Sun Tyre And Wheel Systems.

24. Sundaram Industries Private Limited.

25. Superking Manufacturers (Tyre) Pvt., Ltd.

26. TVS Srichakra Limited.

27. Ultra Mile.

[FR Doc. 2025-02449 Filed 2-7-25; 8:45 am]

BILLING CODE 3510-DS-P